DEPARTMENT OF HOMELAND SECURITY

Coast Guard

[USCG-2006-26256]

National Maritime Security Advisory Committee

AGENCY: Coast Guard, DHS.

ACTION: Notice of meeting.

SUMMARY: The National Maritime Security Advisory Committee (NMSAC) will hold a meeting to discuss various issues relating to national maritime security. This notice announces the date, time, and location for the meeting of the NMSAC.

DATES: NMSAC will meet on Tuesday, November 14, 2006, from 1 p.m. to 5 p.m. The meeting may close early if all business is finished. Written material and requests to make oral presentations should reach the Coast Guard on or before November 1, 2006. Any material requested to be distributed to each member of the Committee should reach the Coast Guard on or before November 1, 2006.

ADDRESSES: NMSAC will meet at the Fairfax Marriott at Fair Oaks Hotel, 11787 Lee Jackson Memorial Highway, Fairfax, Virginia, 22033. Send written material and requests to make oral presentations to Mr. Ike Eisentrout, Commandant (G-PCP-1), NMSAC Executive Assistant, U.S. Coast Guard Headquarters, Room 5302, 2100 Second St., SW., Washington, DC 20593-0001. This notice is available on the Internet at http://dms.dot.gov.

FOR FURTHER INFORMATION CONTACT: Mr. Ike Eisentrout, NMSAC Executive Assistant, telephone 202-372-1119, fax 202-372-1905.

SUPLEMENTARY INFORMATION: Notice of the meeting is given pursuant to the Federal Advisory Committee Act, 5 U.S.C. App. 2 (Pub. L. 92-463, 86 Stat. 770 as amended).

Agenda of Meeting

The agenda includes the following:

(1) Welcome and opening remarks; introduction of new Executive Assistant.

(2) Approval of Minutes from 25 July 2006 NMSAC Meeting and 13 September 2006 NMSAC Teleconference.

(3) Updates from several working groups to include: Cruise Ship Regulations, Report and analysis of the TSA/DoD Seal User's Guide, MTSA Subchapter H Recommendations, Report and comments on the Maritime Modal Implementation Annex.

(4) Miscellaneous Updates on: Maritime Sector Coordinating Council concept; Report on the Transportation Workers Identification Card initiative; Potential initiatives for the next International Maritime Organization council; Report on the National Maritime Recovery Symposium; Refresher training for committee members on use of Homeport.

(5) Public Comments.

(6) New Committee Action Items.

(7) Closing Remarks.

Procedural

The meeting is open to the public. However, participation in NMSAC deliberations is limited to NMSAC members, Department of Homeland Security officials, and persons attending the meeting for special presentations. Please note that the meeting may close early if all business is finished. The Fairfax Marriott Hotel is a public facility, but persons attending should be ready to show a photo identification card for admittance to the meeting. At the Chair's discretion, members of the public may make oral presentations during the meeting. If you would like to make an oral presentation at the meeting, please notify the NMSAC Executive Assistant no later than November 1, 2006. If you would like a copy of your material distributed to each member of the Committee in advance of the meeting, please submit 25 copies to the Executive Assistant no later than November 1, 2006.

Information on Services for Individuals With Disabilities

For information on facilities or services for individuals with disabilities or to request special assistance at the meeting, contact the Executive Assistant as soon as possible.

Tina L. Burke,
Commander, U.S. Coast Guard, Acting Chief, Office of Port and Facility Activities, Designated Federal Official, NMSAC.

[FR Doc. E6-18681 Filed 11-3-06; 8:45 am]

BILLING CODE 4910-15-P